ENVIRONMENTAL PROTECTION AGENCY

[FRL-6865-6]

Agency Information Collection Activities; EPA ICR No. 1715.03; Submission to OMB; Additional Opportunity To Comment

AGENCY: Environmental Protection Agency (EPA).

ACTION: Notice.

SUMMARY: In compliance with the Paperwork Reduction Act (44 U.S.C. 3501 et seq.), this notice announces that the following Information Collection Request (ICR) has been forwarded to the Office of Management and Budget (OMB) for review and approval: TSCA Sections 402/404 Training, Certification, Accreditation and Standards for Lead-Based Paint Activities (EPA ICR No. 1715.03; OMB No. 2070-0155). The ICR, which is abstracted below, describes the nature of the information collection and its estimated cost and burden. On February 23, 2000 (65 FR 8964), EPA solicited comment on this ICR pursuant to 5 CFR 1320.8(d). Comments received by EPA are addressed in the ICR.

DATES: Additional comments may be submitted on or before October 10, 2000.

FOR FURTHER INFORMATION CONTACT: Sandy Farmer at EPA by phone on (202) 260-2740, by e-mail: “farmer.sandy@ epa.gov,” by mail as indicated below. You may access the ICR at http://www.epa.gov/icr/icr.htm and refer to EPA ICR No. 1715.03.

ADDRESSES: Send comments, referencing the proper ICR numbers, to the following addresses: Sandy Farmer, U.S. Environmental Protection Agency, Collection Strategies Division (Mail Code: 2822), 1200 Pennsylvania Avenue, NW., Washington, DC 20460; and to: Office of Information and Regulatory Affairs, Office of Management and Budget (OMB), Attention: Desk Officer for EPA, 725 17th Street, N.W., Washington, DC 20503.

SUPPLEMENTARY INFORMATION: Title: TSCA Sections 402/404 Training, Certification, Accreditation and Standards for Lead-Based Paint Activities (OMB Control No. 2070-0155; EPA ICR No. 1715.03).

Request: This is a request to renew an existing information collection, currently scheduled to expire on August 31, 2000. Under 5 CFR 1320.10(e)(2), the Agency may continue to conduct or sponsor the collection of information while the submission is pending at OMB.

Abstract: This information collection applies to reporting and recordkeeping requirements found in sections 402 and 404 of the Toxic Substances Control Act (TSCA) and applicable regulations at 40 CFR 745. The purposes of the requirements under TSCA section 402 are to ensure that individuals conducting activities that prevent, detect and eliminate hazards associated with lead-based paint in residential facilities, particularly those occupied or used by children, are properly trained and certified, that training programs providing instruction in such activities are accredited, and that these activities are conducted according to reliable, effective and safe work practice standards. The TSCA section 404 regulations include reporting and recordkeeping requirements that apply to states and Indian Tribes that seek Federal authorization to administer and enforce state and tribal programs that regulate lead-based paint activities based on the section 402 regulations. The overall goals of the section 402 and section 404 regulations and the reporting and recordkeeping requirements found therein are to ensure the availability of a trained and qualified workforce to identify and address lead-based paint hazards in residences, and to protect the general public from exposure to lead hazards.

Responses to the collection of information are mandatory (see 40 CFR part 745). Respondents may claim all or part of a document confidential. EPA will disclose information that is covered by a claim of confidentiality only to the extent permitted by, and in accordance with, the procedures in TSCA section 14 and 40 CFR part 2. An agency may not conduct or sponsor, and a person is not required to respond to, a collection of information unless it displays a currently valid OMB control number. The OMB control numbers for EPA's regulations are listed in 40 CFR part 9 and 48 CFR Chapter 15.

Burden Statement: The annual public burden for this collection of information is estimated to average 17.2 hours per response. Under the PRA, “burden” means the total time, effort or financial resources expended by persons to generate, maintain, retain or disclose or provide information to or for a Federal agency. This includes the time needed to review instructions; develop, acquire, install and utilize technology and systems for the purposes of collecting, validating and verifying information, processing and maintaining information, and disclosing and providing information; adjust the existing ways to comply with any previously applicable instructions and requirements; train personnel to be able to respond to a collection of information; search data sources; complete and review the collection of information; and transmit or otherwise disclose the information.

The ICR provides a detailed explanation of the burden and cost estimates for this ICR, which are only briefly summarized here:

Respondents/Affected Entities: Persons who provide training or engage in lead-based paint activities or a state agency administering lead-based paint activities.

Frequency of Response: On occasion.

Estimated Number of Respondents: 21,529.

Estimated Total Annual Burden: 371,214 hours.

Estimated Total Annual Non-labor Costs: $0.

Changes in Burden Estimates: The total burden associated with this ICR has decreased from 403,541 hours in the previous ICR. This decrease, which is described in more detail in the ICR, represents several adjustments in the calculations related to the progress in implementing this program, which was being newly established when the previous ICR was approved.

According to the procedures prescribed in 5 CFR 1320.12, EPA has submitted this ICR to OMB for review and approval. Any comments related to the renewal of this ICR should be submitted within 30 days of this notice, as described above.

Dated: August 30, 2000.
Oscar Morales,
Director, Collection Strategies Division.

[FR Doc. 00-22971 Filed 9-6-00; 8:45 am]

BILLING CODE 6560-50-P